DEPARTMENT OF EDUCATION

2 CFR Part 3474

RIN 1894-AA07

[Docket ID ED-2015-OS-0105]

Open Licensing Requirement for Competitive Grant Programs

AGENCY: Office of the Secretary, Department of Education.

ACTION: Interim final rule; further delay of effective date; request for comments.

SUMMARY: In accordance with a directive from the memorandum entitled “Regulatory Freeze Pending Review,” published in the Federal Register on January 24, 2017 (Memorandum), the Secretary further delays until May 22, 2017, the effective date of the final regulations entitled Open Licensing Requirement for Competitive Grant Programs (Open Licensing), published in the Federal Register on January 19, 2017 (82 FR 7376). The current effective date is March 21, 2017. The additional delay will allow the Department the opportunity for further review of the final regulations.

DATES: As of March 17, 2017, the effective date of the final regulations published January 19, 2017 (82 FR 7376) delayed until March 21, 2017 on January 30, 2017 (82 FR 8669), are further delayed until May 22, 2017. We must receive your comments on or before April 20, 2017.

ADDRESSES: Submit your comments through the Federal eRulemaking Portal or via postal mail, commercial delivery, or hand delivery. We will not accept comments by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Help.”

• Postal Mail, Commercial Delivery, or Hand Delivery: We strongly encourage commenters to submit their comments electronically. However, if you mail or deliver your comments about this interim final rule, address them to Sharon Leu, U.S. Department of Education, 400 Maryland Avenue SW., Room 6W252, Washington, DC 20202-5900.

Privacy Note: The Department's policy is to make all comments received from members of the public available for public viewing in their entirety on the Federal eRulemaking Portal at www.regulations.gov. Therefore, commenters should be careful to include in their comments only information that they wish to make publicly available.

FOR FURTHER INFORMATION CONTACT: Sharon Leu, Department of Education, 400 Maryland Avenue SW., Room 6W252, Washington, DC 20202. Telephone: (202) 453-5646 or by email: tech@ed.gov.

If you use a telecommunications device for the deaf or a text telephone, call the Federal Relay Service, toll free, at 1-800-877-8339.

SUPPLEMENTARY INFORMATION: The Department published the final regulations in the Federal Register on January 19, 2017 (82 FR 7376). We published a document in the Federal Register on January 30, 2017 (82 FR 8669), delaying the effective date of the final regulations from March 20, 2017, to March 21, 2017, in accordance with a directive from the Memorandum to temporarily postpone for 60 days from the date of the Memorandum the effective dates of all regulations that had been published in the Federal Register but had not yet taken effect. The Memorandum also directed agencies to consider further delaying the effective dates beyond that 60-day period. Upon review, the Department has determined that it is appropriate to further delay the effective date of the final regulations to May 22, 2017, for the purpose of additional consideration.

Invitation to Comment: We invite you to submit comments regarding this interim final rule. We will consider comments on the delayed effective date only. We will not consider comments on the final regulations. See ADDRESSES for instructions on how to submit comments.

During and after the comment period, you may inspect all public comments about this interim final rule by accessing Regulations.gov. You may also inspect the comments in person in Room 6W100, 400 Maryland Avenue SW., Washington, DC, between 8:30 a.m. and 4:00 p.m. Washington, DC time, Monday through Friday of each week, except Federal holidays. If you want to schedule time to inspect comments, please contact the person listed under FOR FURTHER INFORMATION CONTACT.

Assistance to Individuals with Disabilities in Reviewing the Rulemaking Record: On request, we will provide an appropriate accommodation or auxiliary aid to an individual with a disability who needs assistance to review the comments or other documents in the public rulemaking record for this interim final rule. If you want to schedule an appointment for this type of accommodation or auxiliary aid, please contact the person listed under FOR FURTHER INFORMATION CONTACT.

Waiver of Rulemaking and Delayed Effective Date: Under the Administrative Procedure Act (APA) (5 U.S.C. 553), the Department generally offers interested parties the opportunity to comment on proposed regulations and publishes rules not less than 30 days before their effective dates. However, the APA provides that an agency is not required to conduct notice-and-comment rulemaking or delay effective dates when the agency, for good cause, finds that the requirement is impracticable, unnecessary, or contrary to the public interest (5 U.S.C. 553(b)(B) and (d)(3)). There is good cause to waive both of these requirements here as the President's appointees and designees need to delay the effective date of these regulations to have adequate time to review these regulations, as well as all of the Department's regulatory activity, and neither the notice and comment processes nor the delayed effective date could be implemented in time to allow for this review before the March 21 effective date.

Accessible Format: Individuals with disabilities may obtain this document in an accessible format (e.g., braille, large print, audiotape, or compact disc) on request to the contact person listed under FOR FURTHER INFORMATION CONTACT.

Electronic Access to this Document: The official version of this document is the document published in the Federal Register. Free Internet access to the official edition of the Federal Register and the Code of Federal Regulations is available via the Federal Digital System at: www.gpo.gov/fdsys. At this site, you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

List of Subjects in 2 CFR Part 3474

Accounting, Administrative practice and procedure, Adult education, Aged, Agriculture, American Samoa, Bilingual education, Blind, Business and industry, Civil rights, Colleges and universities, Communications, Community development, Community facilities, Copyright, Credit, Cultural exchange programs, Educational facilities, Educational research, Education, Education of disadvantaged, Education of individuals with disabilities, Educational study programs, Electric power, Electric power rates, Electric utilities, Elementary and secondary education, Energy conservation, Equal educational opportunity, Federally affected areas, Government contracts, Grant programs, Grant programs-agriculture, Grant programs-business and industry, Grant programs-communications, Grant programs-education, Grant programs-energy, Grant programs-health, Grant programs-housing and community development, Grant programs-social programs, Grant administration, Guam, Home improvement, Homeless, Hospitals, Housing, Human research subjects, Indians, Indians-education, Infants and children, Insurance, Intergovernmental relations, International organizations, Inventions and patents, Loan programs, Loan programs-social programs, Loan programs-agriculture, Loan programs-business and industry, Loan programs-communications, Loan programs-energy, Loan programs-health, Loan programs-housing and community development, Manpower training programs, Migrant labor, Mortgage insurance, Nonprofit organizations, Northern Mariana Islands, Pacific Islands Trust Territories, Privacy, Renewable Energy, Reporting and recordkeeping requirements, Rural areas, Scholarships and fellowships, School construction, Schools, Science and technology, Securities, Small businesses, State and local governments, Student aid, Teachers, Telecommunications, Telephone, Urban areas, Veterans, Virgin Islands, Vocational education, Vocational rehabilitation, Waste treatment and disposal, Water pollution control, Water resources, Water supply, Watersheds, Women.

Dated: March 17, 2017.
Betsy DeVos,
Secretary of Education.

[FR Doc. 2017-05723 Filed 3-17-17; 4:15 pm]

BILLING CODE 4000-01-P